DEPARTMENT OF ENERGY

Federal Energy Regulatory Commission

[Docket Nos. CP17-20-000; CP17-21-000; CP17-21-001; CP18-7-000]

Notice of Schedule for Environmental Review of the Port Arthur Liquefaction Project, the Texas Connector Project, and the Louisiana Connector Project: Port Arthur LNG, LLC; PALNG Common Facilities Company, LLC; Port Arthur Pipeline, LLC

On November 29, 2016, Port Arthur LNG, LLC and PALNG Common Facilities Company, LLC (collectively referred to as PALNG) filed an application in Docket No. CP17-20-000 requesting authorization pursuant to Section 3(a) of the Natural Gas Act (NGA) to construct and operate liquefied natural gas (LNG) export facilities. On the same day, Port Arthur Pipeline, LLC (PAPL) filed an application in Docket No. CP17-21-000, requesting a Certificate of Public Convenience and Necessity pursuant to Section 7(c) of the NGA to construct, operate, and maintain certain natural gas pipeline facilities for its Texas Connector Project. On October 16, 2017, PAPL filed an application in Docket No. CP18-7-000, requesting a Certificate of Public Convenience and Necessity pursuant to Section 7(c) of the NGA to construct, operate, and maintain certain natural gas pipeline facilities for its Louisiana Connector Project. The combined projects, collectively referred to as the Port Arthur Liquefaction and Pipeline Projects (Projects), would provide gas and processing to produce up to 13.5 million tonnes per annum of LNG for export. On August 20, 2015, in Order No. 3698, the U.S. Department of Energy, Office of Fossil Energy, granted to Port Arthur LNG, LLC a long-term, multi-contract authorization to export LNG to Free Trade Agreement nations.

On December 13, 2016, and October 30, 2017, the Federal Energy Regulatory Commission (FERC or Commission) issued its Notices of Application for the Projects. Among other things, these notices alerted other agencies issuing federal authorizations of the requirement to complete all necessary reviews and to reach a final decision on the request for a federal authorization within 90 days of the date of issuance of the Commission staff's final Environmental Impact Statement (EIS) for the Projects. This instant notice identifies the FERC staff's planned schedule for completion of the final EIS for the Projects, which is based on an issuance of the draft EIS in September 2018. The forecasted schedule for both the draft and final EIS is based upon PALNG and PAPL providing complete and timely responses to any future data requests. In addition, the schedule assumes that the cooperating agencies will provide input on their areas of responsibility on a timely basis.

Schedule for Environmental Review

Issuance of Notice of Availability of the final EIS—January 31, 2019

90-Day Federal Authorization Decision Deadline—May 1, 2019

If a schedule change becomes necessary for the final EIS, an additional notice will be provided so that the relevant agencies are kept informed of the Projects' progress.

Project Description

PALNG's proposed facilities consist of an export liquefaction termination that includes two LNG liquefaction trains, three LNG storage tanks, a refrigerant storage area and truck unloading facilities, a condensate storage area and truck loading facilities, a construction dock, a marine offloading facility, a pioneer dock, and two marine berths capable of accommodating two LNG carriers of up to 266,000 cubic meters each. PALNG's proposed facilities would occupy approximately 898 acres of a 2,900-acre site on the western shore of the Port Arthur Canal, about 5 miles south of Port Arthur, Texas and 6 miles north of Sabine, Texas.

PAPL's Texas Connector Project would consist of 26.6 miles of 42-inch-diameter pipeline entering the liquefaction facility from the north; 7.6 miles of 42-inch-diameter pipeline entering the liquefaction facility from the south; 4.7 miles of lateral pipelines; two compressor stations providing a total of approximately 31,600 horsepower of compression; six meter stations; eight pig launchers and receivers; and one mainline valve. These facilities would be located in in Jefferson and Orange Counties, Texas and Cameron Parish, Louisiana.

PAPL's Louisiana Connector Project would consist of 130.8 miles of 42-inch-diameter pipeline; 0.5 mile of lateral pipelines; one compressor station providing a total of approximately 89,900 horsepower of compression; nine meter stations; nine mainline valves; and four pig launchers/receivers in Jefferson and Orange Counties, Texas and Cameron, Calcasieu, Beauregard, Allen, Evangeline, and St. Landry Parishes, Louisiana.

Background

On March 31, 2015, the Commission staff granted PALNG's and PAPL's requests to use the FERC's Pre-filing environmental review process for the Liquefaction and Texas Connector Projects. On June 24, 2015, the Commission issued a Notice of Intent to Prepare an Environmental Impact Statement for the Planned Port Arthur Liquefaction Project and Port Arthur Pipeline Project, Request for Comments on Environmental Issues, and Notice of Public Scoping Meeting. On March 17, 2017, the Commission staff granted PAPL's request to use the FERC's Pre-filing environmental review process for the Louisiana Connector Project. On May 25, 2017, the Commission issued a Notice of Intent to Prepare an Environmental Impact Statement for the Planned Louisiana Connector Project, Request for Comments on Environmental Issues, and Notice of Public Scoping Sessions.

The two referenced Notices of Intent were issued during the respective pre-filing review of the Projects, and were sent to federal, state, and local government agencies; elected officials; affected landowners; environmental and public interest groups; Native American tribes and regional organizations; commentors and other interested parties; and local libraries and newspapers. Major issues raised during scoping included wetland impacts and mitigation, and dredge material testing and beneficial reuse.

The U.S. Coast Guard; U.S. Department of Energy; U.S. Department of Transportation, Pipeline and Hazardous Materials Safety Administration; U.S. Army Corps of Engineers, Galveston District; and U.S. Environmental Protection Agency are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Projects is available from the Commission's Office of External Affairs at (866) 208-FERC or on the FERC website (www.ferc.gov). Using the eLibrary link, select General Search from the eLibrary menu, enter the selected date range and Docket Number excluding the last three digits (i.e., CP17-20, CP17-21, or CP18-7), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19392 Filed 9-6-18; 8:45 am]

BILLING CODE 6717-01-P